NATIONAL SCIENCE FOUNDATION

Notice of Meetings; Sunshine Act

Agency Holding Meeting: National Science Foundation, National Science Board and its Subdivisions.

Date and Time: November 30-December 1, 2005.

November 30, 2005 8 a.m.-5 p.m.

Sessions:

8 a.m.-9 a.m. Open

9 a.m.-9:30 a.m. Open

9:30 a.m.-10 a.m. Open

10 a.m.-11:30 a.m. Open

11:30 a.m.-12 a.m. Open

12 a.m.-12:15 p.m. Closed

1:15 p.m.-3 p.m. Open

3 p.m.-4:30 p.m. Closed

4:30 p.m.-4:50 p.m. Open

4:50 p.m.-5 p.m. Closed

December 1, 2005 8 a.m.-3:30 p.m.

Sessions:

8 a.m.-10 a.m. Open

10 a.m.-11 a.m. Open

11 a.m.-11:30 a.m. Closed

1 p.m.-1:15 p.m. Executive Closed

1:15 p.m.-1:30 p.m. Closed

1:30 p.m.-3:30 p.m. Open

Place: National Science Foundation, 4201 Wilson Blvd, Room 1235, Arlington, VA 22230.

Public Meeting Attendance: All visitors must report to the NSF's visitor's desk at the 9th and N. Stuart Streets entrance to receive a visitor's badge.

Contact Information: Please refer to the National Science Board Web site (http://www.nsf.gov/nsb) for updated schedule. NSB Office: (703) 292-7000.

Status: Part of this meeting will be closed to the public.

Part of this meeting will be open to the public.

Matters To Be Considered

Wednesday, November 30, 2005

Open

Education and Human Resources Subcommittee on S&E Indicators (8 a.m.-9 a.m.), Room 1235.

• Approval of September Minutes.

• Chairman's Remarks.

• Progress Report on Science and Engineering Indicators 2006.

• Progress Report on Board's Companion Piece.

• Future Content and Presentation for Indicators.

Committee on Programs and Plans Task Force on Transformative Research, (9 a.m.-9:30 a.m.), Room 1235.

• Approval of September Minutes.

• Update on Workshop II, “Key Factors in Identifying and Fostering Transformative Science,” Santa Fe, NM, December 16, 2005.

• Discussion of Workshop III.

Committee on Programs and Plans Task Force on International Science, (9:30 a.m.-10 a.m.), Room 1235.

• Overview of Charge for Task Force.

• Discussion of Potential Task Force Activities.

Joint Session: Committee on Strategy and Budget and Committee on Programs and Plans, (10 a.m.-11:30 a.m..), Room 1235.

• Centers and the NSF Portfolio.

• Funding Rates, Award Size and Duration.

Committee on Strategy and Budget (11:30 a.m.-12 p.m.), Room 1235.

• Approval of September 2005 Minutes.

• Approval of October 2005 Teleconference Minutes.

• Discussion of NSF Strategic Plan: FY 2003-2008.

• Status of FY 2006 Budget Request to Congress.

Committee on Programs and Plans (1:15 p.m.-3 p.m.), Room 1235.

• Approval of September Minutes.

• Status Reports.

○ Transformative Research Task Force.

○ International Science & Engineering Task Force.

• Hurricane Science & Engineering.

• Process for Sending Information and Actions to CPP & NSB—Annual Plan.

○ NSF Linkages to the Millennium Ecosystem Assessment Report.

• Major Research Facilities: Guidelines for Planning and Managing the MREFC Account.

• Status Report: Cyberinfrastructure Vision.

Executive Committee (4:30 p.m.-4:50 p.m.), Room 1235.

• Approval of September Minutes.

• Updates or New Business from Committee Members.

○ Meeting Attendance Guidelines.

○ 2006 NSB Retreat and Visit.

Closed

Committee on Strategy and Budget (12 p.m.-12:15 p.m.), Room 1235.

• Status of FY 2007 Budget Submission to OMB.

Committee on Programs and Plans (3 p.m.-4:30 p.m.), Room 1235.

• Awards and Agreements.

Executive Committee (4:50 p.m.-5 p.m.), Room 1235.

• Director's Items: Specific Personnel Matters.

Thursday, December 1, 2005

Open

Committee on Education and Human Resources (8 a.m.-10 a.m.), Room 1235.

• Approval of September Minutes.

• Congressional items.

• NSB/EHR February 2006 Committee meeting.

• Updates:

• Innovation Summit and Future Summits.

• Math and Science Partnership Conference.

• NSB Commission on Education.

• NSF Integration of Research and Education.

• Follow-up to Workshop on “Engineering Workforce Issues and Engineering Education: What Are the Linkages?”

• Subcommittee on Science and Engineering Indicators.

Committee on Audit and Oversight (10 a.m.-11 a.m.), Room 1235.

• Approval of September Minutes.

• OIG Semiannual Report and Management Response to the Report.

• 2005 Financial Statement Audit.

• Chief Financial Officer's Update on Performance and Accountability Report/2005 Financial Statement Audit.

• Business Analysis Update.

Closed Session

Committee on Audit and Oversight (11 a.m.-11:30 a.m.), Room 1235.

• Pending Investigations.

Plenary Session of the Board (1 p.m.-3:30 p.m.)

Executive Closed Session (1 p.m.-1:15 p.m.), Room 1235.

• Approval of September Executive Closed Minutes.

Closed Session (1:15 p.m.-1:30 p.m.), Room 1235.

• Approval of September 2005 Closed Session Minutes.

• Awards and Agreements.

• Closed Committee Reports.

Open Session (1:30 p.m.-3:30 p.m.), Room 1235.

• Approval of September 2005 Minutes.

• Resolution to Close February 2006.

• Chairman's Report.

• Report of ad hoc Task Group on Vision for NSF.

• Director's Report.

• NSF Congressional Update.

• Open Committee Reports.

Michael P. Crosby,
Executive Officer and NSB Office Director.

[FR Doc. 05-23390 Filed 11-22-05; 4:43 pm]

BILLING CODE 7555-01-P